DEPARTMENT OF ENERGY

Federal Energy Regulatory Commission

[Docket No. ER00-3586-000]

Rochester Gas and Electric Corporation; Notice of Filing

September 7, 2000.

Take notice that on September 1, 2000, Rochester Gas and Electric Corporation (RG&E), tendered for filing an Application in the above-referenced proceeding requesting that the Commission extend the authorization previously granted to RG&E), to makes sales to an affiliate in conjunction with the Retail Access Program and the Retail Access Pilot Program. RG&E also requests expedited treatment of its Application so that the Commission may issue an order by September 14, 2000.

Any person desiring to be heard or to protest such filing should file a motion to intervene or protest with the Federal Energy Regulatory Commission, 888 First Street, NE., Washington, DC 20426, in accordance with Rules 211 and 214 of the Commission's Rules of Practice and Procedure (18 CFR 385.211 and 385.214). All such motions and protests should be filed on or before September 11, 2000. Protests will be considered by the Commission to determine the appropriate action to be taken, but will not serve to make protestants parties to the proceedings. Any person wishing to become a party must file a motion to intervene. Copies of this filing are on file with the Commission and are available for public inspection. This filing may also be viewed on the Internet at http://www.ferc.fed.us/online/rims.htm (call 202-208-2222 for assistance).

Linwood A. Watson, Jr.,
Acting Secretary.

[FR Doc. 00-23483 Filed 9-12-00; 8:45 am]

BILLING CODE 6717-01-M